DEPARTMENT OF THE INTERIOR

National Park Service

Notice of Intent to Repatriate a Cultural Item in the Possession of the Hood Museum of Art, Dartmouth College, Hanover, NH

AGENCY: National Park Service, Interior.

ACTION: Notice.

Notice is hereby given under the Native American Graves Protection and Repatriation Act, 43 CFR 10.10 (a)(3), of the intent to repatriate a cultural item in the possession of the Hood Museum of Art, Dartmouth College, Hanover, NH, that meets the definition of “unassociated funerary object” under Section 2 of the Act.

This notice is published as part of the National Park Service’s administrative responsibilities under NAGPRA, 43 CFR 10.2 (c). The determinations within this notice are the sole responsibility of the museum, institution, or Federal agency that has control of this cultural item. The National Park Service is not responsible for the determinations within this notice.

The cultural item is a ball-headed, wooden “war club” (Catalog number 37.5.5370) with a carved diamond pattern and red and green paint on the handle.

In 1937, this war club was donated to the Dartmouth College Museum, now the Hood Museum of Art, by Charles Bethune.

The exact circumstances of the war club’s collection are not known. Donor information states that this war club was collected from a grave in an unknown location. Donor information also identifies this war club as “Seneca”. The Hood Museum of Art is not in possession or control of any human remains from this burial. Officials of the Seneca Nation of New York and the Tonawanda Band of Seneca Indians of New York have indicated that this club is stylistically consistent with other known Seneca war clubs, and that the placement of funerary objects with an individual’s remains was a common Seneca practice during the historic era. As a highly prized, personal object of power, a war club would have been a type of object traditionally placed with its deceased owner. Representatives of the Seneca-Cayuga Tribe of Oklahoma were consulted and agreed that the object should be repatriated to the Seneca Nation of New York and the Tonawanda Band of Seneca Indians of New York.

Based on the above-mentioned information, officials of the Hood Museum of Art have determined that, pursuant to 43 CFR 10.2 (d)(2)(ii), this cultural item is reasonably believed to have been placed with or near individual human remains at the time of death or later as part of the death rite or ceremony and is believed, by a preponderance of the evidence, to have been removed from a specific burial site of an Native American individual. Officials of the Hood Museum of Art also have determined that, pursuant to 43 CFR 10.2 (e), there is a relationship of shared group identity that can be reasonably traced between this unassociated funerary object and the Seneca Nation of New York and the Tonawanda Band of Seneca Indians of New York.

This notice has been sent to officials of the Cayuga Nation of New York, Oneida Nation of New York, Oneida Tribe of Indians of Wisconsin, Onondaga Nation of New York, St. Regis Band of Mohawk Indians of New York, Seneca Nation of New York, Seneca-Cayuga Tribe of Oklahoma, Tonawanda Band of Seneca Indians of New York, and Tuscarora Nation of New York. Representatives of any other Indian tribe that believes itself to be culturally affiliated with this unassociated funerary object should contact Kellen G. Haak, Collections Manager/Registrar and Repatriation Coordinator, Hood Museum of Art, Dartmouth College, Hanover, NH 03755, telephone (603) 646-3109, before September 30, 2002. Repatriation of this unassociated funerary object to the Seneca Nation of New York and the Tonawanda Band of Seneca Indians of New York may begin after that date if no additional claimants come forward.

Dated: July 22, 2002.
Robert Stearns,
Manager, National NAGPRA Program.

[FR Doc. 02-21993 Filed 8-28-02; 8:45 am]

BILLING CODE 4310-70-S